DEPARTMENT OF DEFENSE

Office of the Secretary

[Docket ID: DOD-2025-OS-0837]

Proposed Collection; Comment Request

AGENCY: Office of the Under Secretary of Defense for Personnel and Readiness (OUSD(P&R)), Department of Defense (DoD).

ACTION: 60-Day information collection notice.

SUMMARY: In compliance with the Paperwork Reduction Act of 1995, the Office of the Under Secretary of Defense for Personnel and Readiness announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 27, 2026.

ADDRESSES: You may submit comments, identified by docket number and title, by any of the following methods:

Federal eRulemaking Portal: http://www.regulations.gov. Follow the instructions for submitting comments.

Mail: Department of Defense, Privacy, Civil Liberties, and Transparency Directorate, Office of the Director of Administration and Management, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to ODASD(MC&FP), Mr. Trevor Dean, 1500 Defense Pentagon, Washington, DC 20301, (703) 571-2359.

SUPPLEMENTARY INFORMATION:

Title; Associated Form; and OMB Number: Record of Emergency Data, DD Form 93; OMB Control Number 0704-0649.

Needs and Uses: The DD Form 93 is used by Service members to designate beneficiaries for certain benefits in the event of the Service member's death. It is also a guide for disposition of the member's pay and allowances if captured, missing or interned. It also shows the names and addresses of the person(s) the Service member desires to be notified in case of emergency or death, and designates the person authorized to direct disposition of the Service member's remains upon death. For civilian personnel, it is used to expedite the notification process in the event of an emergency and/or the death of the member. This requirement is identified in DoDI 1300.18, “Department of Defense Personnel Casualty Matters, Policies, and Procedures.” The goal is to retain decisions by service members and deploying contractors relating to persons to be notified in the event of illness, injury, missing status, or death and to capture decisions as it relates to the provision of benefits and designation of a person authorized to direct disposition of their remains upon death. Support staff are able to direct benefits and decisional briefings to those designated as beneficiaries and decision makers as designated by the Service member or deploying contractor.

Affected Public: Individuals and households.

Annual Burden Hours: 144,918.

Number of Respondents: 1,739,012.

Responses per Respondent: 1.

Annual Responses: 1,739,012.

Average Burden per Response: 5 minutes.

Frequency: On Occasion.

Dated: December 19, 2025.
Stephanie J. Bost,
Alternate OSD Federal Register Liaison Officer, Department of Defense.

[FR Doc. 2025-23807 Filed 12-23-25; 8:45 am]

BILLING CODE 6001-FR-P